DEPARTMENT OF TRANSPORTATION

Federal Aviation Administration

Second Meeting: RTCA Special Committee 210, Cabin Management Systems

AGENCY: Federal Aviation Administration (FAA), DOT.

ACTION: Notice of RTCA Special Committee 210, Cabin Management Systems.

SUMMARY: The FAA is issuing this notice to advise the public of a meeting of RTCA Special Committee 210, Cabin Management.

DATES: The meeting will be held May 9-10, 2007 from 9-5 p.m.

ADDRESSES: The meeting will be held at RTCA, Inc., 1828 L Street, NW., Suite 805, Washington, DC 20036, Colson Board Room.

FOR FURTHER INFORMATION CONTACT: (1) RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 210, Cabin Management Systems meeting. The agenda will include:

• May 9:

• Working Group 1, Document Review/Assessment, Garmin Room.

• Working Group 2, Cabin Management Function Classification, Colson Board Room.

• Working Group 3, Commercial Off-the-Shelf (COTS) Assessment, ARINC Room.

• May 10:

• Opening Plenary Session (Welcome and Introductory Remarks, Approval of Seventh Plenary Summary).

• Approval of Summary of the First Meeting held March 6-7, 2007, RTCA Paper No. 083-07/SC210-003.

• Terms of Reference—Review Status.

• Review Working Group (WG) Progress and Identify Issues for Resolution.

• WG-1, Document Review/Assessment.

• WG-2, Cabin Management Function Classification.

• WG-3, Commercial Off-the-Shelf (COTS) Assessment.

• Document Structure/Review.

• Assignment of Responsibilities.

• Closing Plenary Session (Other Business, Establish Agenda for Next Meeting, Date, Place and Time of Next Meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on April 16, 2007.
Francisco Estrada C.,
RTCA Advisory Committee.

[FR Doc. 07-1991 Filed 4-20-07; 8:45 am]

BILLING CODE 4910-13-M